DEPARTMENT OF ENERGY

Federal Energy Regulatory Commission

[Docket No. EL00-62-005, et al.]

ISO New England Inc., et al.; Electric Rate and Corporate Regulation Filings

August 4, 2000.

Take notice that the following filings have been made with the Commission:

1. ISO New England Inc.

[Docket No. EL00-62-005]

Take notice that on July 28, 2000, ISO New England Inc. submitted its compliance filing in response to the Commission's June 28, 2000 Order in this Docket.

Copies of said filing have been served upon all parties to this proceeding, and upon NEPOOL Participants, and upon all non-Participant entities that are customers under the NEPOOL Open Access Transmission Tariff, as well as upon the utility regulatory agencies of the six New England States.

Comment date: August 28, 2000, in accordance with Standard Paragraph E at the end of this notice.

2. ISO New England Inc.

[Docket Nos. EL00-62-006]

Take notice that on July 28, 2000, the New England Power Pool (NEPOOL) Participants Committee submitted the Fifty-Eighth Agreement Amending the Restated NEPOOL Agreement (Fifty-Eighth Agreement), the Fifty-Ninth Agreement Amending the Restated NEPOOL Agreement (Fifty-Ninth Agreement) and the Sixtieth Agreement Amending the Restated NEPOOL Agreement (Sixtieth Agreement) in response to requirements of the Commission's June 28, 2000 order in Docket Nos. EL00-62-000 et al., ISO New England Inc., 91 FERC ¶ 61,311 (2000) concerning the implementation of a congestion management system and multi-settlement system. In accordance with the requirements of that order, NEPOOL has noted an effective date of July 28, 2000, except with respect to changes to the provisions relating to Installed Capability, which are to become effective August 1, 2000.

The NEPOOL Participants Committee states that copies of these materials were sent to all persons identified on the service lists in the captioned proceedings, the NEPOOL Participants and the six New England state governors and regulatory commissions.

Comment date: August 28, 2000, in accordance with Standard Paragraph E at the end of this notice.

3. California Independent System Operator Corporation

[Docket No. ER00-1239-004]

Take notice that on July 31, 2000, the California Independent System Operator Corporation (ISO) tendered for filing a change to the ISO Tariff to comply with the Commission's order in California Independent System Operator Corporation, 91 FERC ¶ 61,341 (2000). This change reflects the principle that the allocation of outage cancellation costs should be to all Scheduling Coordinators in proportion to their metered Demand during the Settlement Period(s) that the outage was originally scheduled to have occurred.

The ISO states that this filing has been served upon all parties in this proceeding.

Comment date: August 21, 2000, in accordance with Standard Paragraph E at the end of this notice.

4. New England Power Pool

[Docket No. ER00-3339-000]

Take notice that on August 1, 2000, the New England Power Pool (NEPOOL) Participants Committee filed for acceptance materials to permit NEPOOL to expand its membership to include The Maine Health & Higher Educational Facilities Authority (MHEFA), Marc Schaefer (Schaefer) and New York State Electric & Gas Corporation (NYSEG).

The Participants Committee requests an effective date of August 1, 2000 for commencement of participation in NEPOOL by Schaefer and NYSEG and October 1, 2000 for commencement of participation in NEPOOL by MHEFA.

The Participants Committee states that copies of these materials were sent to the New England state governors and regulatory commissions and the Participants in NEPOOL.

Comment date: August 22, 2000, in accordance with Standard Paragraph E at the end of this notice.

5. New England Power Pool

[Docket No. ER00-3340-000]

Take notice that on August 1, 2000, the New England Power Pool (NEPOOL) Participants Committee filed for acceptance materials to terminate the memberships of ACN Power, Inc. (ACN) and Northeast Energy Services, Inc. (NORESCO).

At the request of ACN and NORESCO, the Participants Committee seeks a July 1, 2000 effective date for each termination.

The Participants Committee states that copies of these materials were sent to the New England state governors and regulatory commissions and the Participants in NEPOOL.

Comment date: August 22, 2000, in accordance with Standard Paragraph E at the end of this notice.

6. Southern California Edison Company

[Docket No. ER00-3341-000]

Take notice that on August 1, 2000, Southern California Edison Company (SCE) tendered for filing the Amended and Restated Power Exchange Agreement (Amended Agreement) between SCE and the Tucson Electric Power Company (Tucson).

The Amended Agreement serves to revise the terms and conditions of firm system capacity and associated energy being exchanged by SCE and Tucson.

Copies of this filing were served upon the Public Utilities Commission of the State of California and all interested parties.

Comment date: August 22, 2000, in accordance with Standard Paragraph E at the end of this notice.

7. California Independent System Operator Corporation

[Docket No. ER00-3342-000]

Take notice that on August 1, 2000, the California Independent System Operator Corporation (ISO) tendered for filing a notice concerning the termination of the Scheduling Coordinator Agreement (SCA) between the ISO and LG&E Retail Access Service.

The ISO requests that the SCA be terminated effective as of July 3, 2000.

The ISO states that copies of this filing have been served upon all parties in the above-referenced docket.

Comment date: August 22, 2000, in accordance with Standard Paragraph E at the end of this notice.

8. Duke Power, a division of Duke Energy Corporation

[Docket No. ER00-3343-000]

Take notice that on August 1, 2000, Duke Power (Duke), a division of Duke Energy Corporation, tendered for filing a Service Agreement with Conectiv Energy Supply, Inc. for power sales at market-based rates.

Duke requests that the proposed Service Agreement be permitted to become effective on July 13, 2000.

Duke states that this filing is in accordance with Part 35 of the Commission's Regulations and a copy has been served on the North Carolina Utilities Commission.

Comment date: August 22, 2000, in accordance with Standard Paragraph E at the end of this notice.

9. New England Power Pool

[Docket No. ER00-2148-001]

Take notice that on August 1, 2000, the New England Power Pool (NEPOOL) Participants Committee tendered for filing the NEPOOL Open Access Transmission Tariff Ancillary Service Schedule 2 (Reactive Supply and Voltage Control from Generation Sources Service) Implementation Rule (the Schedule 2 Rule) in response to requirements of the Commission's June 15, 2000 order in Docket No. ER00-2148-000, New England Power Pool, 91 FERC ¶ 61,620 (2000), and to further conform the Schedule 2 Rule with NEPOOL Tariff Schedule 2 in light of modifications to Schedule 2 of the NEPOOL Tariff as accepted effective July 28, 2000 by the Commission in Docket Nos. EL00-62-000 et al., ISO New England Inc., 91 FERC ¶ 61,311 (2000).

The NEPOOL Participants Committee states that copies of these materials were sent to all persons identified on the official service list in Docket ER00-2148-000, the NEPOOL Participants and the six New England state governors and regulatory commissions.

Comment date: August 22, 2000, in accordance with Standard Paragraph E at the end of this notice.

10. PJM Interconnection, L.L.C.

[Docket No. ER99-2028-003]

Take notice that on August 1, 2000, the Market Monitoring Unit (MMU) of PJM Interconnection, L.L.C. (PJM), tendered for filing the MMU's report on Fixed Transmission Rights (FTR) auction procedures. The MMU states that the report is submitted pursuant to the Commission's “Order Conditionally Accepting Compliance Filing” issued on April 13, 1999 in Docket No. ER98-2028-000. PJM Interconnection, L.L.C., 87 FERC ¶ 61,054, at 61,220 (1999).

The MMU states that copies of this filing were served upon all PJM Members and each state electric utility regulatory commission in the PJM control area.

Comment date: August 22, 2000, in accordance with Standard Paragraph E at the end of this notice.

11. Golden Spread Electric Cooperative, Inc.

[Docket No. ER00-2919-001]

Take notice that on August 1, 2000, Golden Spread Electric Cooperative, Inc., tendered for filing an executed umbrella service agreement between Golden Spread and Public Service Company of New Mexico under Golden Spread's FERC Electric Tariff, Original Volume No. 1 (Market-Based Rate Tariff).

Golden Spread requests an effective date of May 22, 2000 for the service agreement.

Comment date: August 22, 2000, in accordance with Standard Paragraph E at the end of this notice.

12. Southwest Power Pool, Inc.

[Docket No. ER00-3293-000]

Take notice that on July 31, 2000, Southwest Power Pool, Inc. (SPP), tendered for filing an executed service agreement for Firm Point-to-Point Transmission with Southwestern Public Service Company (SPS); six executed service agreements for Firm Point-to-Point Transmission Service with Southwestern Public Service Company—Wholesale Merchant Function; four executed service agreements for Firm Point-to-Point Transmission Service with West Texas Municipal Power Agency; and two unexecuted service agreements for Network Integration Transmission Service with Golden Spread Electric Cooperative, Inc. (Golden Spread) and South Plains Electric Cooperative, Inc. (South Plains).

SPP seeks an effective date of June 29, 2000 for each of the service agreements.

Copies of this filing were served on all signatories and on Golden Spread and South Plains.

Comment date: August 21, 2000, in accordance with Standard Paragraph E at the end of this notice.

13. Portland General Electric Company

[Docket No. ER00-3301-000]

Take notice that on July 31, 2000, Portland General Electric Company (PGE), tendered for filing under PGE's Market-Based Rate Tariff, FERC Electric Tariff, First Revised Volume No. 11 (Docket No. ER99-1263-000), an executed Service Agreement for Service at Market-Based Rates with Southern Company Energy Marketing, L.P.

Pursuant to 18 CFR Section 35.11, and the Commission's Order in Docket No. PL93-2-002 issued July 30, 1993, PGE respectfully requests that the Commission grant a waiver of the notice requirements of 18 CFR Section 35.3 to allow the Service Agreement to become effective July 25, 2000.

A copy of this filing was caused to be served upon Southern Company Energy Marketing, L.P., as noted in the filing letter.

Comment date: August 21, 2000, in accordance with Standard Paragraph E at the end of this notice.

14. Westcoast Gas Services Delaware (America) Inc.

[Docket No. ER00-3315-000]

Take notice that on July 31, 2000, Westcoast Gas Services Delaware (America) Inc. (WGSI Delaware), tendered for filing an application for waivers and blanket approvals under various regulations of the Commission and for an order accepting WGSI Delaware's Electric Rate Schedule FERC No. 1 to be effective on the earlier of September 1, 2000, or upon issuance of the Commission's order accepting the Rate Schedule.

WGSI Delaware intends to engage in electric power and energy transactions as a marketer and a broker. In transactions where WGSI Delaware sells electric energy, it proposes to make such sales on rates, terms and conditions to be mutually agreed to with the purchasing party. WGSI Delaware's proposed Rate Schedule also permits it to reassign transmission capacity and make resales of firm transmission rights in California.

Comment date: August 21, 2000, in accordance with Standard Paragraph E at the end of this notice.

15. Rockingham Power, L.L.C.

[Docket No. ER00-3318-000]

Take notice that on July 31, 2000, Rockingham Power, L.L.C., tendered for filing a power sales agreement between Rockingham Power, L.L.C. and Duke Power, a Division of Duke Energy Corporation, to be in effect as of July 1, 2000.

Comment date: August 21, 2000, in accordance with Standard Paragraph E at the end of this notice.

16. MidAmerican Energy Company

[Docket No. ER00-3319-000]

Take notice that on July 31, 2000, MidAmerican Energy Company (MidAmerican), 666 Grand Avenue, Des Moines, Iowa 50309 tendered for filing with the Commission a Service Agreement dated July 18, 2000 (Agreement) with Calpine Central, L.P. (Calpine) entered into pursuant to MidAmerican's Rate Schedule for Power Sales, FERC Electric Tariff, Original Volume No. 5 (Tariff).

MidAmerican requests an effective date of August 1, 2000 for this Agreement, and accordingly seeks a waiver of the Commission's notice requirement. MidAmerican has served a copy of the filing on Calpine, the Iowa Utilities Board, the Illinois Commerce Commission and the South Dakota Public Utilities Commission.

Comment date: August 21, 2000, in accordance with Standard Paragraph E at the end of this notice.

17. PPL Montana, LLC

[Docket No. ER00-3320-000]

Take notice that on July 31, 2000, PPL Montana, LLC (PPL Montana), tendered for filing with the Federal Energy Regulatory Commission a Power Sales Agreement between PPL Montana and Energy West Resources, Inc. (Energy West) under PPL Montana's Market-Based Rate Tariff, FERC Electric Tariff, Revised Volume No. 1.

PPL Montana requests an effective date of July 1, 2000 for the transaction confirmation.

PPL Montana states that a copy of this filing has been provided to Energy West.

Comment date: August 21, 2000, in accordance with Standard Paragraph E at the end of this notice.

18. Entergy Services, Inc.

[Docket No. ER00-3321-000]

Take notice that on July 31, 2000, Entergy Services, Inc., on behalf of Entergy Gulf States, Inc., tendered for filing an Interconnection and Operating Agreement with Hartburg Power, LP (Hartburg), and a Generator Imbalance Agreement with Hartburg.

Comment date: August 21, 2000, in accordance with Standard Paragraph E at the end of this notice.

19. PPL Montana, LLC

[Docket No. ER00-3323-000]

Take notice that on July 31, 2000, PPL Montana, LLC (PPL Montana), tendered for filing with the Federal Energy Regulatory Commission a Power Sales Agreement between PPL Montana and Commercial Energy of Montana, Inc. (Commercial Energy) under PPL Montana's Market-Based Rate Tariff, FERC Electric Tariff, Revised Volume No. 1.

PPL Montana requests an effective date of July 1, 2000 for the transaction confirmation.

PPL Montana states that a copy of this filing has been provided to Commercial Energy.

Comment date: August 21, 2000, in accordance with Standard Paragraph E at the end of this notice.

20. Northeast Utilities Service Company

[Docket No. ER00-3324-000]

Take notice that on July 31, 2000, Northeast Utilities Service Company (NUSCO), on behalf of The Connecticut Light and Power Company, tendered for filing pursuant to Section 205 of the Federal Power Act and Part 35 of the Commission's Regulations, a rate schedule reduction for sales of electricity to the Town of Wallingford, Department of Public Utilities and Connecticut Municipal Electric Energy Cooperative.

NUSCO states that a copy of this filing has been mailed to the Town of Wallingford, Department of Public Utilities, Connecticut Municipal Electric Energy Cooperative, and the Connecticut Department of Public Utility Control.

NUSCO requests that the rate schedule reduction become effective on August 1, 2000.

Comment date: August 21, 2000, in accordance with Standard Paragraph E at the end of this notice.

21. Northern Indiana Public Service Company

[Docket No. ER00-3325-000]

Take notice that on July 31, 2000, Northern Indiana Public Service Company (Northern Indiana), tendered for filing an executed Interconnection Agreement between Northern Indiana Public Service Company and Bio-Energy Partners.

Northern Indiana Public Service Company has requested waivers to permit the Service Agreement to become effective as of July 1, 2000.

Copies of this filing have been sent to Bio-Energy Partners, the Indiana Utility Regulatory Commission, and the Indiana Office of Utility Consumer Counselor.

Comment date: August 21, 2000, in accordance with Standard Paragraph E at the end of this notice.

22. Duke Energy Corporation

[Docket No. ER00-3326-000]

Take notice that on July 31, 2000, Duke Energy Corporation (Duke), tendered for filing a Service Agreement with H.Q. Energy Services (U.S.) Inc., for Non-Transmission Service under Duke's Open Access Transmission Tariff.

Duke requests that the proposed Service Agreement be permitted to become effective on July 12, 2000.

Duke states that this filing is in accordance with Part 35 of the Commission's Regulations and a copy has been served on the North Carolina Utilities Commission.

Comment date: August 21, 2000, in accordance with Standard Paragraph E at the end of this notice.

23. PJM Interconnection, L.L.C.

[Docket No. ER00-3327-000]

Take notice that on July 31, 2000, PJM Interconnection, L.L.C. (PJM), tendered for filing changes to Schedule 2 (Reactive Supply and Voltage Control from Generation Sources Service) of the PJM Open Access Transmission Tariff (PJM Tariff) to modify the methodology for determining the charges for, and distributing revenues related to, providing Reactive Supply and Voltage Control from Generation Sources Service.

Copies of this filing were served upon all members of PJM and each state electric utility regulatory commission in the PJM control area.

Comment date: August 21, 2000, in accordance with Standard Paragraph E at the end of this notice.

24. Commonwealth Edison Company

[Docket No. ER00-3344-000]

Take notice that on August 1, 2000, Commonwealth Edison Company (ComEd) tendered for filing an executed service agreement for East Kentucky Power Cooperative (EKPC) under ComEd's FERC Electric Market Based-Rate Schedule for power sales.

ComEd requests and effective date of July 26, 2000 for the service agreement and accordingly seeks waiver of the Commission's notice requirements.

Copies of this filing were served on EKPC.

Comment date: August 22, 2000, in accordance with Standard Paragraph E at the end of this notice.

25. Commonwealth Edison Company

[Docket No. ER00-3345-000]

Take notice that on August 1, 2000, Commonwealth Edison Company (ComEd) tendered for filing an executed service agreement for Amerada Hess Corporation (Amerada) under ComEd's FERC Electric Market Based-Rate Schedule for power sales.

ComEd requests an effective date of July 4, 2000 for the service agreement and accordingly seeks waiver of the Commission's notice requirements.

Copies of this filing were served on Amerada.

Comment date: August 22, 2000, in accordance with Standard Paragraph E at the end of this notice.

26. Allegheny Energy Service Corporation, on behalf of Allegheny Energy Supply Company LLC

[Docket No. ER00-3346-000]

Take notice that on August 1, 2000, Allegheny Energy Service Corporation on behalf of Allegheny Energy Supply Company, LLC (Allegheny Energy Supply Company), tendered for filing First Revised Service Agreement No. 79 to complete the filing requirement for one (1) new Customer of the Market Rate Tariff under which Allegheny Energy Supply offers generation services.

Allegheny Energy requests a waiver of notice requirements to make service available as of April 7, 2000 to Conectiv Energy Supply, Inc.

Copies of the filing have been provided to the Public Utilities Commission of Ohio, the Pennsylvania Public Utility Commission, the Maryland Public Service Commission, the Virginia State Corporation Commission, the West Virginia Public Service Commission, and all parties of record.

Comment date: August 22, 2000, in accordance with Standard Paragraph E at the end of this notice.

27. Allegheny Energy Service Corporation, on behalf of Allegheny Energy Supply Company LLC

[Docket No. ER00-3347-000]

Take notice that on August 1, 2000, Allegheny Energy Service Corporation on behalf of Allegheny Energy Supply Company, LLC (Allegheny Energy Supply Company) filed First Revised Service Agreement No. 65 to complete the filing requirement for one (1) new Customer of the Market Rate Tariff under which Allegheny Energy Supply offers generation services.

Allegheny Energy Supply maintains the effective date of Service Agreement No. 65 of March 28, 2000 for service to Florida Power & Light Company.

Copies of the filing have been provided to the Public Utilities Commission of Ohio, the Pennsylvania Public Utility Commission, the Maryland Public Service Commission, the Virginia State Corporation Commission, the West Virginia Public Service Commission, and all parties of record.

Comment date: August 22, 2000, in accordance with Standard Paragraph E at the end of this notice.

28. Delmarva Power & Light Company, Conectiv Delmarva Generation, Inc., Atlantic City Electric Company, Conectiv Atlantic Generation, LLC, and Conectiv Energy Supply, Inc.

[Docket No. ER00-3322-000]

Take notice that on July 31, 2000, Conectiv made a filing on behalf of its subsidiaries Delmarva Power & Light Company (Delmarva), Conectiv Delmarva Generation, Inc. (CDG), Atlantic City Electric Company (Atlantic), Conectiv Atlantic Generation, LLC (CAG) and Conectiv Energy Supply, Inc. (CESI) (collectively, the Conectiv Affiliates). Conectiv asks the Commission to eliminate the conditions on CESI's sales to Delmarva imposed in the Commission's April 25, 2000 order in Docket No. ER00-1770-000 and to waive the market-based rate codes of conduct for each of the Conectiv Affiliates.

Conectiv requests waiver of the Commission's notice requirements so that this filing be made effective on July 1, 2000.

Copies of the filing were served upon Delmarva's wholesale requirements customers and the Maryland People's Counsel, Maryland Public Service Commission, Delaware Public Service Commission, New Jersey Public Service Commission and the Virginia State Corporation Commission.

Comment date: August 21, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-20263 Filed 8-9-00; 8:45 am]

BILLING CODE 6717-01-U